SECURITIES AND EXCHANGE COMMISSION

[Release No. 34-68834; File No. SR-DTC-2012-10]

Self-Regulatory Organizations; The Depository Trust Company; Notice of Designation of a Longer Period for Commission Action on Proposed Rule Change To Reduce Liquidity Risk Relating to Its Processing of Maturity and Income Presentments and Issuances of Money Market Instruments

February 5, 2013.

On December 17, 2012, The Depository Trust Company (“DTC”) filed with the Securities and Exchange Commission (“Commission”) proposed rule change SR-DTC-2012-10 pursuant to Section 19(b)(1) of the Securities Exchange Act of 1934 (“Act”) ¹ and Rule 19b-4 thereunder.² The proposed rule change was published for comment in the Federal Register on January 4, 2013.³ The Commission received one comment on the proposal.⁴

¹ 15 U.S.C. 78s(b)(1).

² 17 CFR 240.19b-4.

³ Securities Exchange Act Release No. 34-68548 (Dec. 28, 2012), 78 FR 795 (Jan. 4, 2013).

⁴ See Comment from Karen Jackson dated December 30, 2012 (http://sec.gov/comments/sr-dtc-2012-10/dtc201210-1.htm). The comment discussed matters outside the scope of the proposal.

Section 19(b)(2) of the Act ⁵ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day from the publication of notice of the filing of this proposed rule change is February 18, 2013. The Commission is extending this 45-day time period.

⁵ See 15 U.S.C. 78s(b)(2).

The proposed rule change would permit DTC to alter the mechanism of DTC's processing of maturity and income presentments and issuances of money market instruments. The Commission finds it appropriate to designate a longer period within which to take action on the proposed rule change so that it has sufficient time to consider the complex issues under the proposed rule change.

Accordingly, the Commission, pursuant to Section 19(b)(2) of the Act,⁶ designates April 4, 2013 as the date by which the Commission should either approve or disapprove, or institute proceedings to determine whether to disapprove, the proposed rule change.

⁶ 15 U.S.C. 78s(b)(2).

For the Commission, by the Division of Trading and Markets, pursuant to delegated authority.⁷
⁷ 17 CFR 200.30-3(a)(31).
Kevin M. O'Neill,
Deputy Secretary.

[FR Doc. 2013-02953 Filed 2-8-13; 8:45 am]

BILLING CODE 8011-01-P